DEPARTMENT OF TRANSPORTATION

Federal Aviation Administration

Research, Engineering and Development (R, E & D) Advisory Committee

Pursuant to section 10(A)(2) of the Federal Advisory Committee Act (Pub. L. 92-463; 5 U.S.C. App. 2), notice is hereby given of a meeting of the FAA Research, Engineering and Development (R, E & D) Advisory Committee.

AGENCY: Federal Aviation Administration.

ACTION: Notice of meeting.

Name: Research, Engineering & Development Advisory Committee.

Time and Date: September 30—9 a.m.-5 p.m., October 1—10 a.m.-5 p.m.

Place: Holiday Inn Rosslyn Westpark Hotel, 1900 North Fort Myer Drive, Arlington, Virginia 22209.

Purpose: On September 30 from 9 a.m-5 p.m. and October 1 from 10 a.m.-12 noon the meeting agenda will include receiving from the Committee guidance for FAA's research and development investments in the areas of air traffic services, airports, aircraft safety, security, human factors and environment and energy. A joint session will be held on October 1 from 1 p.m. to 5 p.m. with NASA's Aerospace Technology Advisory Committee. The planned agenda includes a briefing on the 21st Century Aviation Systems and a discussion on issues and activities that impact both groups.

Attendance is open to the interested public but limited to space available. Persons wishing to attend the meeting or obtain information should contact Gloria Dunderman at the Federal Aviation Administration, AAR-200, 800 Independence Avenue, SW., Washington, DC 20591 (202) 267-8937 or gloria.dunderman@faa.gov.

Members of the public may present a written statement to the Committee at any time.

Issued in Washington, DC, on August 20, 2002.
Herman A. Rediess,
Director, Office of Aviation Research.

[FR Doc. 02-21784 Filed 8-26-02; 8:45 am]

BILLING CODE 4910-13-M